COMMODITY FUTURES TRADING COMMISSION

17 CFR Chapter 1

RIN Number 3038-AE79

Post-Trade Name Give-Up on Swap Execution Facilities

AGENCY: Commodity Futures Trading Commission.

ACTION: Extension of comment period.

SUMMARY: The Commodity Futures Trading Commission (“Commission”) is extending the comment period for a request for public comment regarding the practice of “post-trade name give-up” on swap execution facilities (the “Name Give-Up Request for Comment”) that published November 30, 2018 in the Federal Register.

DATES: The comment period for the Name Give-Up Request for Comment is extended until March 15, 2019.

ADDRESSES: You may submit comments, identified by “Post-Trade Name Give-Up on Swap Execution Facilities” and RIN 3038-AE79, by any of the following methods:

• The agency's website: http://comments.cftc.gov. Follow the instructions for submitting comments.

• Mail: Secretary of the Commission, Commodity Futures Trading Commission, Three Lafayette Centre, 1155 21st Street NW, Washington, DC 20581.

• Hand Delivery/Courier: Same as Mail above.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established under 17 CFR 145.9.

The Commission reserves the right, but shall have no obligation, to review, pre-screen, filter, redact, refuse or remove any or all submissions from http://www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Aleko Stamoulis, Special Counsel, (202) 418-5714, astamoulis@cftc.gov; or Nhan Nguyen, Special Counsel, (202) 418-5932, nnguyen@cftc.gov, Division of Market Oversight, Commodity Futures Trading Commission, Three Lafayette Centre, 1155 21st Street NW, Washington, DC 20581.

SUPPLEMENTARY INFORMATION: On November 6, 2018, the Commodity Futures Trading Commission (“Commission”) approved a request for public comment regarding the practice of “post-trade name give-up” on swap execution facilities (the “Name Give-Up Request for Comment”). The Name Give-Up Request for Comment was published in the Federal Register on November 30, 2018, with a 60-day comment period closing on January 29, 2019 (83 FR 61571). On November 6, 2018, the Commission also approved a notice of proposed rulemaking regarding swap execution facilities and the trade execution requirement (the “SEF NPRM”). Like the Name Give-Up Request for Comment, the SEF NPRM was published in the Federal Register on November 30, 2018 (83 FR 61946). However, the SEF NPRM was published with a 75-day comment period that is scheduled to conclude on February 13, 2019. By a separate Federal Register release also published today, the Commission has determined to extend the comment period for the SEF NPRM until March 15, 2019. The Commission anticipates that there will be a large degree of overlap between the group of commenters on the SEF NPRM and the group of commenters on the Name Give-Up Request for Comment, as well as certain overlaps in the issues raised by the two matters. In light of these factors, the Commission believes that it would be sensible for the comment periods for the two matters to conclude on the same date. Accordingly, the comment period for the Name Give-Up Request for Comment is open through March 15, 2019.

Issued in Washington, DC, on February 5, 2019, by the Commission.
Robert Sidman,
Deputy Secretary of the Commission.

Note: The following appendix will not appear in the Code of Federal Regulations.

Appendix to Post-Trade Name Give-Up on Swap Execution Facilities—Commission Voting Summary

On this matter, On this matter, Chairman Giancarlo, and Commissioners Quintenz, Behnam, Stump, and Berkovitz voted in the affirmative. No Commissioner voted in the negative.

[FR Doc. 2019-01667 Filed 2-11-19; 8:45 am]

BILLING CODE 6351-01-P